DEPARTMENT OF THE INTERIOR

National Park Service

[NPS-AKR-GAAR-12397; PPAKAKROR4;PPMPRLE1Y.LS0000]

Notice of Open Public Meetings for the National Park Service (NPS) Alaska Region's Subsistence Resource Commission (SRC) Program for Calendar Year 2013

AGENCY: National Park Service, Interior.

ACTION: Meeting notice.

SUMMARY: As required by the Federal Advisory Committee Act (Pub. L. 92-463, 86 Stat. 770), the NPS is hereby giving notice that the Gates of the Arctic National Park Subsistence Resource Commission (SRC) will hold meetings to develop and continue work on NPS subsistence program recommendations and other related subsistence management issues. The NPS SRC program is authorized under Title VIII, Section 808 of the Alaska National Interest Lands Conservation Act, Public Law 96-487.

Gates of the Arctic National Park SRC Meeting Date and Location: The Gates of the Arctic National Park SRC will meet from 9:00 a.m. to 5:00 p.m. on Tuesday, April 9 to Wednesday, April 10, 2013, at the Ambler Public School in Ambler, AK. SRC meeting locations and dates may change based on inclement weather or exceptional circumstances. If the meeting date and location are changed, the Superintendent will issue a press release and use local newspapers and radio stations to announce the meeting.

Gates of the Arctic National Park SRC Proposed Meeting Agenda:

The proposed meeting agenda includes the following:

1. Call to Order—Confirm Quorum

2. Welcome Introduction

3. Review and Adoption of Agenda

4. Approval of Minutes

5. Welcome by Local Community

6. Superintendent's Welcome and Review of the Commission Purpose

7. Commission Membership Status

8. SRC Chair's Report

9. Superintendent's Report

10. Old Business

a. Update on Gates of the Arctic National Park and Preserve General Management Plan

b. Update on National Park Service Local Hire Program

c. Update on Department of the Interior Tribal Consultation Policies

11. New Business

12. Federal Subsistence Board Update

13. Alaska Boards of Fish and Game Update

14. National Park Service Reports

a. Ranger Update

b. Resource Management Update

c. Subsistence Manager's Report

15. Public and Other Agency Comments

16. Work Session

17. Set Tentative Date and Location for Next Subsistence Resource Commission Meeting

18. Adjourn Meeting

For Further Information Contact Designated Federal Official: Greg Dudgeon, Superintendent, or Marcy Okada, Subsistence Manager, at (907) 457-5752 or Clarence Summers, Subsistence Manager, at (907) 644-3603. If you are interested in applying for Gates of the Arctic National Park SRC membership, contact the Superintendent at 4175 Geist Road, Fairbanks, AK 99709, or visit the park Web site at: http://www.nps.gov.gaar/contacts.htm.

SUPPLEMENTARY INFORMATION: These meetings are open to the public and will have time allocated for public testimony. The public is welcome to present written or oral comments to the SRC. The meetings will be recorded and meeting minutes will be available upon request from the park superintendent for public inspection approximately six weeks after the meeting. Before including your address, telephone number, email address, or other personal identifying information in your comment, you should be aware that your entire comment—including your personal identifying information—may be made publicly available at any time. While you can ask us in your comment to withhold your personal identifying information from public review, we cannot guarantee that we will be able to do so.

Dated: February 21, 2013.
Debora R. Cooper,
Associate Regional Director, Resources and Subsistence, Alaska Region.

[FR Doc. 2013-05173 Filed 3-5-13; 8:45 am]

BILLING CODE 4312-EF-P